DEPARTMENT OF LABOR

Employment And Training Administration

[TA-W-56,637 and TA-W-56,637A]

Oneida Ltd., Sherrill, NY, Oneida Ltd., Oneida, NY; Notice of Termination of Investigation

Pursuant to Section 221 of the Trade Act of 1974, as amended, an investigation was initiated on February 25, 2005 in response to a worker petition filed by a company official on behalf of workers at Oneida Ltd., Sherrill, New York (TA-W-56,637) and Oneida Ltd. Oneida, New York (TA-W-56,637A).

The petitioner has requested that the petition be withdrawn. Consequently, further investigation would serve no purpose and the investigation has been terminated.

Signed at Washington, DC this 4th day of April, 2005.
Elliott S. Kushner,
Certifying Officer, Division of Trade Adjustment Assistance.

[FR Doc. E5-2089 Filed 4-29-05; 8:45 am]

BILLING CODE 4510-30-P